FEDERAL ELECTION COMMISSION

[Notice 2001-8]

Filing Dates for the Massachusetts Special Election in the 9th Congressional District

AGENCY: Federal Election Commission.

ACTION: Notice of filing dates for special election.

SUMMARY: Massachusetts has scheduled special elections on September 11, 2001, and October 16, 2001, to fill the U.S. House of Representatives seat in the Ninth Congressional District held by the late John Joseph Moakley.

Committees required to file reports in connection with the Special Primary Election on September 11, 2001, should file a 12-day Pre-Primary Report on August 30, 2001. Committees required to file reports in connection with both the Special Primary and Special General Election on October 16, 2001, should file a 12-day Pre-Primary Report, a 12-day Pre-General Report on October 4, 2001, and a Post-General Report on November 15, 2001.

FOR FURTHER INFORMATION CONTACT: Mr. Gregory J. Scott, Information Division, 999 E Street, N.W., Washington, DC 20463; Telephone: (202) 694-1100; Toll Free (800) 424-9530.

SUPPLEMENTARY INFORMATION:

Principal Campaign Committees

All principal campaign committees of candidates participating in the Massachusetts Special Primary and Special General Elections shall file a 12-day Pre-Primary Report on August 30, 2001; a Pre-General Report on October 4, 2001; and a Post-General Report on November 15, 2001. (See chart below for the closing date for each report).

All principal campaign committees of candidates only participating in the Massachusetts Special Primary Election shall file a 12-day Pre-Primary Report on August 30, 2001. (See chart below for the closing date for the report).

Unauthorized Committees (PACs and Party Committees)

Political committees that file on a semiannual basis during 2001 are subject to special election reporting if they make previously undisclosed contributions or expenditures in connection with the Massachusetts Special Primary or Special General Elections by the close of books for the applicable report(s). Consult the chart below that corresponds to the committee's situation for close of books and filing date information.

Committees filing monthly that support candidates in the Massachusetts Special Primary or Special General Elections should continue to file according to the non-election year monthly reporting schedule.

Calendar of Reporting Dates for Massachusetts Special Elections
Report | Close of books ¹ | Reg./Cert. mailing date ² | Filing date
Committees Involved in Only the Special Primary (09/11/01) Must File:
Pre-Primary | 08/22/01 | 08/27/01 | 08/30/01
Year-End | 12/31/01 | 01/31/02 | 01/31/02
Committees Involved in Both the Special Primary (09/11/01) and Special General (10/16/01) Must File:
Pre-Primary | 08/22/01 | 08/27/01 | 08/30/01
Pre-General | 09/26/01 | 10/01/01 | 10/04/01
Post-General | 11/05/01 | 11/15/01 | 11/15/01
Year-End | 12/31/01 | 01/31/02 | 01/31/02
A Committee Involved in Only the Special General (10/16/01) Must File:
Pre-General | 09/26/01 | 10/01/01 | 10/04/01
Post-General | 11/05/01 | 11/15/01 | 11/15/01
Year-End | 12/31/01 | 01/31/02 | 01/31/02
¹ The period begins with the close of books of the last report filed by the committee. If the committee has filed no previous reports, the period begins with the date of the committee's first activity.
² Reports sent registered or certified mail must be postmarked by the mailing date; otherwise, they must be received by the filing date.

Dated: June 21, 2001.
David M.Mason,
Vice Chairman, Federal Election Commission.

[FR Doc. 01-15984 Filed 6-25-01; 8:45 am]

BILLING CODE 6715-01-P